ENVIRONMENTAL PROTECTION AGENCY

40 CFR Part 710

[EPA-HQ-OPPT-2006-0691; FRL-8088-5]

2006 Reporting Notice; Partial Update of Inventory Database; Chemical Substance Production, Processing, and Use Site Reports

AGENCY: Environmental Protection Agency (EPA).

ACTION: Announcement of 2006 reporting period.

SUMMARY: This document announces the 2006 reporting period for Inventory Update Reporting (IUR) under the Toxic Substances Control Act (TSCA). The IUR rule requires manufacturers and importers of certain chemical substances included on the TSCA Chemical Substances Inventory to report current data on the manufacturing, processing, and use of the substances. The 2006 reporting period is from August 25, 2006 to December 23, 2006. This is the first reporting period since the original inventory in which manufacturers and importers of inorganic chemical substances as well as manufacturers and importers of organic chemical substances are required to report. Also, the 2006 reporting period is the first to require reporting of processing and use information for certain chemical substances manufactured in volumes of 300,000 pounds or more at a site in addition to manufacturing information. While information can continue to be submitted through the mail or other delivery service, the Agency strongly encourages reporting through the Internet using EPA's Central Data Exchange (CDX).

DATES: The 2006 reporting period is from August 25, 2006 to December 23, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; email address:TSCA-Hotline@epa.gov.

For technical information contact: Susan Sharkey, Project Manager, Economics, Exposure and Technology Division (7406M), Office of Pollution Prevention and Toxics, Environmental Protection Agency, 1200 Pennsylvania Ave., NW., Washington, DC 20460-0001; telephone number: (202) 564-8789; e-mail address: sharkey.susan@epa.gov.

SUPPLEMENTARY INFORMATION:

I. General Information

A. Does this Action Apply to Me?

You may be affected by this action if you manufacture (defined by statute at 15 U.S.C. 2602(7) to include import) chemical substances, including inorganic chemical substances, subject to reporting under the Inventory Update Reporting (IUR) regulations at 40 CFR part 710, subpart C. Any use of the term “manufacture” in this document will encompass import, unless otherwise stated.

Potentially affected entities may include, but are not limited to:

• Chemical manufacturers and importers, including chemical manufacturers and importers of inorganic chemical substances (NAICS codes 325, 32411).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical contact person listed under FOR FURTHER INFORMATION CONTACT.

B. How Can I Get Copies of this Document and Other Related Documents?

You may access this Federal Register document electronically through the EPA Internet under the Federal Register listings at http://www.epa.gov/fedrgstr. Copies of TSCA Regulations or additional assistance on the IUR reporting requirements can be obtained by writing TSCA Hotline, U.S. Environmental Protection Agency, Office of Pollution Prevention and Toxics (7408M), 1200 Pennsylvania Ave., NW., Washington, DC 20460; calling (202) 554-1404; or sending an e-mail toTSCA-Hotline@epamail.epa.gov.

II. Background

A. What Action is the Agency Taking?

The Agency is announcing the 2006 reporting period for Inventory Update Reporting (IUR) under TSCA. IUR requires manufacturers and importers of certain chemical substances included on the TSCA Chemical Substances Inventory to report current data on the manufacturing, processing, and use of the substances. The 2006 reporting period is from August 25, 2006 to December 23, 2006.

The 2006 reporting period is the first time that reporting has been required since the promulgation of amendments on January 7, 2003 (68 FR 848). The 2003 Amendments and further subsequent revisions thereto have substantially altered the reporting requirements. For 2006, manufacturers of both organic and inorganic chemical substances listed on the TSCA Inventory are required to report company, site, and manufacturing information. IUR submitters may be required to report processing and use information for chemical substances manufactured (including imported) in amounts of 300,000 pounds or more during calendar year 2005.

B. What is the Agency's Authority for Taking this Action?

EPA is required under TSCA section 8(b), 15 U.S.C. 2607(b), to compile and keep current an inventory of chemical substances manufactured or processed in the United States. This inventory is known as the TSCA Chemical Substances Inventory (the TSCA Inventory). In 1977, EPA promulgated a rule (42 FR 64572, December 23, 1977) under TSCA section 8(a), 15 U.S.C. 2607(a), to compile an inventory of chemical substances in commerce at that time. In 1986, EPA promulgated the initial IUR rule under TSCA section 8(a), codified at 40 CFR part 710 (51 FR 21438, June 12, 1986), to facilitate the periodic updating of the TSCA Inventory and to support activities associated with the implementation of TSCA. In 2003, EPA promulgated extensive amendments to the IUR rule (68 FR 848, January 7, 2003) (FRL-6767-4) (2003 Amendments) to collect additional information regarding the manufacture of chemical substances and also, for chemicals produced in amounts of 300,000 pounds or more at a site, information regarding the processing and use of chemical substances. Minor corrections to the IUR rule were made in July of 2004 (69 FR 40787, July 7, 2004) (FRL-7332-3), and additional revisions to the IUR rule were made on December 19, 2005 (70 FR 75059) (FRL-7743-9).

After the initial reporting during 1986, recurring reporting was required every 4 years. Subsequent reporting cycles took place in 1990, 1994, 1998, and 2002. The next reporting period is from August 25, 2006 to December 23, 2006. Persons subject to the IUR must submit the required information during this period.

TSCA section 8(a)(1) authorizes the EPA Administrator to promulgate rules under which manufacturers and processors of chemical substances and mixtures (referred to hereinafter as chemical substances) must maintain such records and submit such information as the Administrator may reasonably require. TSCA section 8(a) generally excludes small manufacturers and processors of chemical substances from the reporting requirements established in TSCA section 8(a). However, EPA is authorized by TSCA section 8(a)(3) to require TSCA section 8(a) reporting from small manufacturers and processors with respect to any chemical substance that is the subject of a rule proposed or promulgated under TSCA section 4, 5(b)(4), or 6, or that is the subject of an order under TSCA section 5(e), or that is the subject of relief that has been granted pursuant to a civil action under TSCA section 5 or 7. The standard for determining whether an entity qualifies as a small manufacturer for purposes of 40 CFR part 710 generally is identified in 40 CFR 704.3. Processors are not currently subject to the regulations at 40 CFR part 710.

C. How Do I Know What Information is Currently in the TSCA Chemical Substances Inventory?

The Agency publishes, via the National Technical Information Service (NTIS), an updated public TSCA Inventory twice a year, normally around January/February and July/August each year. Specifically, each of the chemical substances included in these products is identified by a Chemical Abstracts Service (CAS) Index or Preferred Name, the corresponding CAS registry number, molecular formula, and if applicable, the chemical definition and appropriate EPA special flags as found in the printed Inventory. The substances are sequenced in ascending order of the corresponding CAS registry numbers. The products do not include chemical synonyms that are copyrighted by the CAS. Furthermore, generic names or EPA accession numbers for substances with confidential chemical identities are not included on the public TSCA Inventory.

For confidential substances, the Agency also publishes data linking the PMN case number to the corresponding accession number. The publication of the accession number will facilitate IUR reporting. These data are also available at the NTIS.

These products are available for sale from: National Technical Information Service (NTIS), U.S. Department of Commerce, Springfield, VA 22161; telephone: (703) 605-6000, toll free: 1-800-553-NTIS; Internet address: www.ntis.gov/fcpc. The NTIS order number for the TSCA Inventory database CD ROM is SUB5423; for the accession number database CD ROM is PB2006500013; and for TSCA Tracker is SUB5435 or SUB5468.

D. How Do I Know If I Have to Report?

You have to report if you manufacture or import IUR reportable chemical substances included on the TSCA Chemical Substances Inventory in an amount of 25,000 pounds or more at a single site during the 2005 calendar year. EPA has developed an instructions manual (Instructions for Reporting for the 2006 Partial Updating of the TSCA Chemical Substances Inventory (Instructions for Reporting)) that provides guidance to assist manufacturers and importers in reporting under the 2006 IUR, including relevant citations to the CFR. For further and more specific information, please review the IUR reporting regulations beginning at 40 CFR 710.43.

E. How Do I Get a 2006 Reporting Package?

Materials and other information needed to report under the 2006 IUR are available from the Agency's Internet homepage, http://www.epa.gov/oppt/iur. The IUR website Documents, Tools, and Resources page contains information, software, and documents needed to report in 2006. The eIUR reporting software is a downloadable software program to enable you to electronically complete and submit the IUR reporting form (Form U). The Instructions for Reporting provides guidance for completing the 2006 Form U. In addition, the presentation used during a past EPA IUR training workshop is available on the website.

In an effort to streamline the reporting process, reduce administrative costs, and accelerate processing, the Agency is relying more heavily on electronic methods of information dissemination and collection. In the past, EPA mailed a reporting package to persons who reported during the previous IUR reporting period. EPA is no longer mailing such a package, and is instead relying on the Internet for disseminating reporting information. If you do not have access to the Internet, traditional hard copies or CD ROMs containing the eIUR software or guidance documents will be made available through the TSCA Hotline listed under Unit I.B.

F. How Do I Submit My Report?

The regulation at 40 CFR 710.39 requires submitters to report using EPA's Form U. Submitters may report using the printed or the electronic 2006 Form U, although electronic reporting is preferred. Reporting options are further described on EPA's Internet website at www.epa.gov/oppt/iur under “Reporting Options and Deadline.”

i. Electronic reporting. Instructions for electronic reporting are contained in the eIUR software and in the Instructions for Reporting. Electronic reporting consists of two steps. Electronic reporters are required to use the eIUR reporting software to develop a validated, correctly formatted, and encrypted data file. Once the software has completed the data file, the user will be provided with directions for submitting the data file. The data file can be delivered to EPA on a CD ROM or can be submitted through the Internet using the Agency's Central Data Exchange (CDX). Note that registration is required to submit through CDX. Please allow 2 weeks for the registration process. The eIUR software contains everything you need to report.

Because electronic reporting reduces the chances of errors in reporting and reduces resources needed to report and process reports, EPA is encouraging submitters to use the reporting software and file through the Internet using CDX or on a CD ROM.

ii. Paper reporting. Your completed Form U can be printed using the eIUR software. Form U is also available as a PDF on EPA's website or upon request from the TSCA Hotline at the address listed above.

G. Where Do I Submit My 2006 Report?

Instructions for submitting your report are included in the eIUR software and in the Instructions for Reporting. Reports can be submitted in two ways.

i. Using the Internet. You can submit your completed Form U through the Internet using EPA's CDX. To register with CDX, go to the CDX homepage at www.epa.gov/cdx. Click on “Log-in to CDX” and then “Registration.” Allow 2 weeks for the registration process. Once registered, follow the directions in the eIUR software to submit your report. The eIUR software must be used to submit through the Internet.

ii. By mail or delivery service. You can submit your completed Form U either on a CD ROM or on paper. Mail your submission to OPPT IUR Submission Coordinator, Mail code 7407M, ATTN: Inventory Update Reporting, Office of Pollution Prevention and Toxics, Environmental Protection Agency, 1200 Pennsylvania Ave., NW., Washington, DC 20460. If using a delivery service, please deliver your submission to OPPT IUR Submission Coordinator, Attn: Inventory Update Reporting, U.S. Environmental Protection Agency, Office of Pollution Prevention and Toxics, EPA East Bldg., Room 6428, 1201 Constitution Avenue, NW., Washington, DC.

H. What Happens If I Fail to Report During the 2006 Reporting Period?

If you fail to report as required, the Agency can take enforcement action against you. Section 16 of the Act provides that any person who violates a provision of TSCA shall be liable to the United States for a civil penalty not to exceed $25,000 for each such violation.

I. Does this Action Involve Any New Information Collection Activities, Such as Reporting, Recordkeeping, or Notification?

No. The information collection requirements contained in 40 CFR part 710, subpart C, have already been approved by the Office of Management and Budget (OMB) pursuant to the Paperwork Reduction Act (PRA), 44 U.S.C. 3501 et seq., under OMB control number 2070-0070 (EPA ICR No. 1884.03). The annual public burden for this collection of information is estimated at 560 hours per response for organic chemicals, and 265 hours per response for inorganic chemicals. Under the PRA, “burden” means the total time, effort or financial resources expended by persons to generate, maintain, retain, or disclose information to or for a Federal agency. For this collection, it includes the time needed to review instructions, search existing data sources, gather and maintain the data needed, and complete and review the collection of information. An agency may not conduct or sponsor and a person is not required to respond to, a collection of information unless it displays a currently valid OMB number. The OMB control number for this information collection appears above. In addition, the OMB control numbers for EPA's regulations, after initial display in the final rule, are listed in 40 CFR part 9 and appear on any form that is required to be used.

Send any comments on the accuracy of the provided burden estimates, and any suggested methods for minimizing respondent burden, including through the use of automated collection techniques to the Director, Regulatory Information Division, Office of Policy, Economics and Innovation, U.S. Environmental Protection Agency, Mail Code 1806A, 1200 Pennsylvania Ave., NW., Washington, DC 20460. Include the OMB control number in any correspondence. Send only comments on the accuracy of the burden estimates to this address. Do not send your 2006 IUR submission information to this address. Your 2006 IUR submission should be submitted in accordance with the reporting instructions. The instructions are included in the reporting software.

List of Subjects in 40 CFR Part 710

Environmental protection, Chemicals, Hazardous substances, Reporting and recordkeeping requirements.

Dated: August 28, 2006.
Charles M. Auer,
Director, Office of Pollution Prevention and Toxics.

[FR Doc. E6-14993 Filed 9-8-06; 8:45 am]

BILLING CODE 6560-50-S